DEPARTMENT OF COMMERCE

Foreign-Trade Zones Board

[B-40-2012]

Foreign-Trade Zone 41—Milwaukee, WI; Application for Reorganization (Expansion of Service Area) Under Alternative Site Framework

An application has been submitted to the Foreign-Trade Zones (FTZ) Board (the Board) by the Port of Milwaukee, grantee of Foreign-Trade Zone 41, requesting authority to reorganize the zone to expand its service area under the alternative site framework (ASF) adopted by the Board (15 CFR Sec. 400.2(c)). The ASF is an option for grantees for the establishment or reorganization of general-purpose zones and can permit significantly greater flexibility in the designation of new subzones or “usage-driven” FTZ sites for operators/users located within a grantee's “service area” in the context of the Board's standard 2,000-acre activation limit for a general-purpose zone project. The application was submitted pursuant to the Foreign-Trade Zones Act, as amended (19 U.S.C. 81a-81u) and the regulations of the Board (15 CFR part 400). It was formally filed on May 21, 2012.

FTZ 41 was approved by the Board on September 29, 1978 (Board Order 136, 43 FR 46887, 10/11/1978) and expanded on August 4, 1981 (Board Order 178, 46 FR 40718, 8/11/1981), October 18, 1985 (Board Order 315, 50 FR 43749, 10/29/1985), May 27, 1993 (Board Order 641, 58 FR 32512, 6/10/1993), September 4, 1994 (Board Order 694, 59 FR 47115, 9/14/1994) and April 29, 1996 (Board Order 818, 61 FR 21157, 5/9/1996). On August 31, 2011, an application was approved by the FTZ Board to reorganize the zone under the alternative site framework (ASF) (Board Order 1780). FTZ 41's service area includes Kenosha, Milwaukee and Racine Counties, Wisconsin.

The applicant is now requesting authority to expand the service area of the zone to include Dodge, Fond du Lac, Jefferson, Ozaukee, Rock, Sheboygan, Walworth, Washington and Waukesha Counties, as described in the application. If approved, the grantee would be able to serve sites throughout the expanded service area based on companies' needs for FTZ designation. The proposed expanded service area is adjacent to the Milwaukee, Wisconsin Customs and Border Protection Ports of Entry.

The applicant is also requesting approval of the following temporary sites as “usage-driven” sites: Site 12 (113.4 acres)—Sigma-Aldrich Corporation, 5485 County Road “V”, Sheboygan Falls, Sheboygan County; and, Site 13 (15.1 acres)—Sigma-Aldrich Corporation, 215 S. Park Street, Port Washington, Ozaukee County.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is July 24, 2012. Rebuttal comments in response to material submitted during the foregoing period may be submitted during the subsequent 15-day period to August 8, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Elizabeth Whiteman at Elizabeth Whiteman@trade.gov or (202) 482-0473.

Dated: May 21, 2012.
Andrew McGilvray,
Executive Secretary.

[FR Doc. 2012-12818 Filed 5-24-12; 8:45 am]

BILLING CODE P